DEPARTMENT OF TRANSPORTATION

Federal Aviation Administration

14 CFR Part 71

[Docket No. FAA-2020-0085; Airspace Docket No. 20-ASO-2]

RIN 2120-AA66

Amendment of Class D Airspace; Jacksonville NAS, FL, and Amendment of Class D and Class E Airspace; Mayport, FL

AGENCY: Federal Aviation Administration (FAA), DOT.

ACTION: Final rule, correction.

SUMMARY: This action corrects a final rule published in the Federal Register on June 2, 2020 amending Class D and E airspace for Jacksonville NAS and Mayport, FL. The FAA inserted an effective date of July 16, 2020. The correct date is August 13, 2020.

DATES: Effective 0901 UTC, August 13, 2020. The Director of the Federal Register approves this incorporation by reference action under Title 1 Code of Federal Regulations part 51, subject to the annual revision of FAA Order 7400.11 and publication of conforming amendments.

FOR FURTHER INFORMATION CONTACT: John Fornito, Operations Support Group, Eastern Service Center, Federal Aviation Administration, 1701 Columbia Ave., College Park, GA 30337; telephone (404) 305-6364.

SUPPLEMENTARY INFORMATION:

History

The FAA published a final rule in the Federal Register (85 FR 33536, June 2, 2020) for Doc. No. FAA-2020-0085, amending airspace at Jacksonville NAS, FL and Mayport, FL. Subsequent to publication, the FAA found that the effective date of this action was incorrect. This action corrects the error.

Class D and Class E airspace designations are published in Paragraphs 5000 and 6004, respectively, of FAA Order 7400.11D, dated August 8, 2019, and effective September 15, 2019, which is incorporated by reference in 14 CFR part 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Correction to Final Rule

This action amends Title 14 Code of Federal Regulations (14 CFR) part 71 by correcting the effective date as follows:

The effective date listed under the DATES header is changed to August 13, 2020.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, effective September 15, 2019, is amended as follows:

Paragraph 5000 Class D Airspace.

* * * * *

ASO FL D Jacksonville NAS, FL [Amended]

Jacksonville NAS (Towers Field), FL

(Lat. 30°14′01″ N, long. 81°40′34″ W)

Jacksonville TACAN

(Lat. 30°14′05″ N, long. 81°40′30″ W)

Herlong Recreational Airport, FL

(Lat. 30°16′40″ N, long. 81°48′21″ W)

That airspace extending upward from the surface of the Earth, to and including 2,600 feet MSL, within a 5.3-mile radius of Jacksonville NAS (Towers Field) and within 1 mile north and 2.5 miles south of the Jacksonville TACAN 270 radial, extending from the 5.3-mile radius to 6.5 miles west of the TACAN; excluding that airspace within a 1.8-mile radius of the Herlong Recreational Airport.

ASO FL D Mayport, FL [Amended]

Mayport NS (ADM David L McDonald Field), FL

(Lat. 30°23′29″ N, long. 81°25′28″ W)

Jax Executive Airport at Craig

(Lat. 30°20′11″ N, long. 81°30′52″ W)

That airspace extending upward from the surface to and including 2,500 feet MSL within a 4.2-mile radius of Mayport NS (ADM David L McDonald Field), excluding the portion southwest of a line connecting the two points of intersection with a 4.2-mile radius circle centered on Jacksonville Executive Airport at Craig. This Class D airspace area is effective during the specific dates and times established in advance by a Notice to Airmen. The effective date and time will thereafter be continuously published in the Chart Supplement.

Paragraph 6004 Class E Airspace Designated as an Extension to Class D or E Surface Area.

* * * * *

ASO FL E4 Mayport, FL [Amended]

Mayport NS (ADM David L McDonald Field), FL

(Lat. 30°23′29″ N, long. 81°25′28″ W)

Mayport (Navy) TACAN

(Lat. 30°23′19″ N, long. 81°25′23″ W)

That airspace extending upward from the surface within 3.2-miles each side of the Mayport (Navy) TACAN 035° radial extending from the 4.2-mile radius of Mayport NS (ADM David L McDonald Field) to 5 miles northeast of the TACAN. This Class E airspace is effective during the dates and times established in advance by a Notice to Airmen. The effective date and time will thereafter be continuously published in the Chart Supplement.

Issued in College Park, Georgia, on June 12, 2020.
Andreese C. Davis,
Manager, Airspace & Procedures Team South, Eastern Service Center, Air Traffic Organization.

[FR Doc. 2020-13134 Filed 6-18-20; 8:45 am]

BILLING CODE 4910-13-P